SURFACE TRANSPORTATION BOARD

[Docket No. FD 36436]

Central Railroad Company of Indianapolis—Lease and Operation Exemption—Norfolk Southern Railway Company

Central Railroad Company of Indianapolis (CERA), a Class III railroad, has filed a verified notice of exemption pursuant to 49 CFR 1150.41 to continue to lease and operate approximately 15.7 miles of rail line between milepost RK-154.5, a point just east of the grade crossing at 38th Street in Gas City, Grant County, Ind., and milepost RK-138.8, at the end of the leased line at Harford City, Blackford County, Ind. (the Line). CERA states that it has entered into an amended lease (Amended Agreement) with Norfolk Southern Railway Company (NSR), the owner of the Line, amending the existing lease (Current Agreement) between those parties.¹ Both the Amended Agreement and the Current Agreement include operating rights into Goodman Yard and any sidings or sidetracks owned by NSR that are accessed via the Line.

¹ See Cent. R.R. of Indianapolis—Lease & Operation Exemption—Norfolk S. Ry., FD 35300 (STB served Oct. 21, 2009) (authorizing CERA to lease and operate 15.9 miles of line).

CERA states that it is the present operator of the Line under the Current Agreement. CERA states that the Amended Agreement extends the term of the lease until December 31, 2024 (or until the Amended Agreement is otherwise terminated in accordance with its terms), and revises other commercial provisions.²

² Under the Amended Agreement, the Line will end at milepost RK-138.8, making it 0.2 mile shorter than the leased track under the Current Agreement, which ends at milepost RK-138.6. Although this notice reflects the modified mileage, CERA retains a common carrier obligation to operate between milepost RK-138.8 and milepost RK-138.6 until it receives authority to discontinue service over that section of track and consummates that authority. See Thompson v. Tex. Mexican Ry., 328 U.S. 134 (1946).

CERA certifies that the Amended Agreement does not include an interchange commitment.

CERA certifies that its projected revenues as a result of this transaction will not exceed those that would qualify it as a Class III carrier. CERA also certifies that its revenues currently exceed $5 million. Pursuant to 49 CFR 1150.42(e), if a carrier's projected annual revenues will exceed $5 million, it must, at least 60 days before the exemption becomes effective, post a notice of its intent to undertake the proposed transaction at the workplace of the employees on the affected lines, serve a copy of the notice on the national offices of the labor unions with employees on the affected lines, and certify to the Board that it has done so. However, CERA's verified notice includes a request for waiver of the 60-day advance labor notice requirements. CERA's waiver request will be addressed in a separate decision. The Board will establish the effective date of the exemption in its separate decision on the waiver request.

If the verified notice contains false or misleading information, the exemption is void ab initio. Petitions to revoke the exemption under 49 U.S.C. 10502(d) may be filed at any time. The filing of a petition to revoke will not automatically stay the effectiveness of the exemption. Petitions for stay must be filed no later than October 15, 2020.

All pleadings, referring to Docket No. FD 36436, must be filed with the Surface Transportation Board either via e-filing or in writing addressed to 395 E Street SW, Washington, DC 20423-0001. In addition, a copy of each pleading must be served on CERA's representative, Eric M. Hocky, Clark Hill PLC, Two Commerce Square, 2001 Market St., Suite 2620, Philadelphia, PA 19103.

According to CERA, this action is categorically excluded from environmental review under 49 CFR 1105.6(c) and from historic preservation reporting requirements under 49 CFR 1105.8(b).

Board decisions and notices are available at www.stb.gov.

Decided: October 2, 2020.
By the Board, Allison C. Davis, Director, Office of Proceedings.
Brendetta Jones,
Clearance Clerk.

[FR Doc. 2020-22286 Filed 10-7-20; 8:45 am]

BILLING CODE 4915-01-P